NUCLEAR REGULATORY COMMISSION

[NRC-2016-0269]

Information Collection: Licensing Requirements for the Independent Storage of Spent Nuclear Fuel, High-Level Radioactive Waste and Reactor-Related Greater Than Class C Waste; Correction

AGENCY: Nuclear Regulatory Commission.

ACTION: Notice of submission to the Office of Management and Budget; request for comment; correction.

SUMMARY: The U.S. Nuclear Regulatory Commission (NRC) is correcting a notice that was published in the Federal Register (FR) on October 13, 2017 regarding submission of the renewal of an existing collection of information to the Office of Management and Budget (OMB) for review. The information collection is entitled, “Licensing Requirements for the Independent Storage of Spent Nuclear Fuel, High-Level Radioactive Waste and Reactor-Related Greater than Class C Waste.” This action is necessary to correct the burden hours.

DATES: The correction is effective October 25, 2017.

ADDRESSES: Submit comments directly to the OMB reviewer at: Aaron Szabo Desk Officer, Office of Information and Regulatory Affairs (3150-0132), NEOB-10202, Office of Management and Budget, Washington, DC 20503; telephone: 202-395-3621, email: oira_submission@omb.eop.gov.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION: In the FR on October 13, 2017 in FR Doc. 2017-22144, on page 47779, in the first column, item #9, correct “79,040 hours (33,909 hours reporting + 42,319 hours recordkeeping + 2,812 hours third-party disclosure)” to read “78,800 hours (33,669 hours reporting + 42,319 hours recordkeeping + 2,812 hours third-party disclosure).” On page 47778, in the third column, correct the ADAMS Accession No. for the supporting statement “ML17208A007” to read “ML17292A963.”

Dated at Rockville, Maryland, this 20th day of October 2017.
For the Nuclear Regulatory Commission.
David Cullison,
NRC Clearance Officer, Office of the Chief Information Officer.

[FR Doc. 2017-23174 Filed 10-24-17; 8:45 am]

BILLING CODE 7590-01-P